FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 17, 2007.

A. Federal Reserve Bank of St. Louis (Glenda Wilson, Community Affairs Officer) 411 Locust Street, St. Louis, Missouri 63166-2034:

1. Bennie F. Ryburn, Jr., and Bennie F. Ryburn III, as trustees of the Bennie F. Ryburn Family Trust all of Monticello, Arkansas; to acquire Drew Bancshares, Inc., Monticello, Arkansas and indirectly acquire additional voting shares of Commercial Bank and Trust Company, Monticello, Arkansas.

2. James K. Maddox Irrevocable Trust and James K. Maddox as trustee, both of Clarkton, Missouri , individually and as group acting in concert with James K. Maddox, the James K. Maddox Irrevocable Trust, John W. Maddox, Candi H. Maddox, J. Jason Maddox, and Maco Construction, Inc., all of Clarkton, Missouri ; to acquire Sterling Bancshares, Inc., Poplar Bluff, Missouri and thereby indirectly acquire additional voting shares of Sterling Bank, Poplar Bluff, Missouri.

Board of Governors of the Federal Reserve System, June 28, 2007.
Robert deV. Frierson,
Deputy Secretary of the Board.

[FR Doc. E7-12830 Filed 7-2-07; 8:45 am]

BILLING CODE 6210-01-S